DEPARTMENT OF AGRICULTURE

Natural Resources Conservation Service

Matanuska River Terrace Erosion Area Acquisition Pilot Project

AGENCY: Natural Resources Conservation Service, USDA.

ACTION: Notice of a Finding of No Significant Impact.

SUMMARY: Pursuant to Section 102(2)(C) of the National Environmental Policy Act of 1969; the Council on Environmental Quality Guidelines (40 CFR part 1500); and the Natural Resources Conservation Service (formerly the Soil Conservation Service) Guidelines (7 CFR part 650); the Natural Resources Conservation Service, U.S. Department of Agriculture, Robert Jones, State Conservationist, finds that neither the proposed action nor any of the alternatives is a major Federal action significantly affecting the quality of the human environment, and determine that an environmental impact statement is not needed for the Matanuska River Terrace Erosion Area Acquisition Pilot Project.

FOR FURTHER INFORMATION CONTACT: Mr. Robert Jones, State Conservationist, Natural Resources Conservation Service, Alaska State Office, 800 West Evergreen Avenue, Suite 100, Palmer, AK 99645-6539; Phone: 907-761-7760; Fax: 907-761-7790.

SUPPLEMENTARY INFORMATION: The environmental assessment of this federally assisted action indicates that the project will not cause significant local, regional, or national impacts on the environment. As a result of these findings, the preparation and review of an environmental impact statement are not needed for this project.

The proposed action is for the Matanuska-Susitna Borough (MSB) to acquire fee simple title to eligible selected properties (~3-4) within the project areas described located near the communities of Sutton and Palmer, AK. Participation by the landowner is strictly voluntary. All real property acquisition will be made at appraised fair market value in accordance with the Federal Acquisition Regulations. Applications for assistance will be ranked in accordance with the criteria agreed upon by the MSB and the Natural Resources Conservation Service (NRCS). The highest ranked property, as determined by NRCS, will be acquired first according to criteria parameters. Acquisitions will be limited to available Federal funding ($594,000). All property acquired under this project will have the structures demolished and/or removed; wells, septic systems, and underground storage tanks decommissioned or removed as required by State law; and the site restored to support natural terrace and riparian values and functions, in perpetuity. A Cooperative Agreement between MSB and NRCS will be reached that defines the roles and responsibilities of each organization for pre- and post implementation. Covenant Stipulations will be placed on each acquired property designating allowable land use and management.

The Notice of a Finding of No Significant Impact (FONSI) has been forwarded to the Environmental Protection Agency and other interested parties. A limited number of copies of the Environmental Assessment and the FONSI are available to fill single copy requests at the above address. Basic data developed during the environmental assessment are on file and may be reviewed by contacting Robert Jones.

No administrative action on implementation of the proposal will be taken until 30 days after the date of this publication in the Federal Register.

Dated: June 1, 2006.
Robert Jones,
State Conservationist.

[FR Doc. E6-9002 Filed 6-8-06; 8:45 am]

BILLING CODE 3410-16-P